DEPARTMENT OF EDUCATION

Applications for New Awards; Hispanic Serving Institutions Science, Technology, Engineering & Mathematics (HSI STEM) and Articulation Program; Correction

Catalog of Federal Domestic Assistance (CFDA) Number: 84.031C

AGENCY: Office of Postsecondary Education, Department of Education.

ACTION: Notice; correction.

SUMMARY: This notice corrects “Section II. Award Information” and “Section IV. Application and Submission Information” in the notice inviting applications for new awards for fiscal year (FY) 2016 for the HSI STEM and Articulation Program, published on March 4, 2016. This notice also extends the deadline dates for application submission and intergovernmental review.

DATES: Effective March 29, 2016.

Deadline for Transmittal of Applications: May 31, 2016.

Deadline for Intergovernmental Review: July 27, 2016.

FOR FURTHER INFORMATION CONTACT: Jeffrey Hartman or Everardo Gil, Office of Postsecondary Education, U.S. Department of Education, 400 Maryland Avenue SW., Room 7E311, Washington, DC 20202. Telephone: (202) 502-7607 or (202) 219-7000 or by email: Jeffrey.Hartman@ed.gov or Everardo.Gil@ed.gov.

If you use a telecommunications device for the deaf or a text telephone, call the Federal Relay Service, toll free, at 1-800-877-8339.

SUPPLEMENTARY INFORMATION:

Correction 1

In the Federal Register of March 4, 2016 (81 FR 11532), on page 11534, in the first column, section II, Award Information, after “Estimated Range of Awards,” and before “Estimated Average Size of Awards” we add the “Maximum Award,” to read:

“Maximum Award: $1,200,000.

We will reject any application that proposes a budget exceeding the maximum amount listed above for a single budget period of 12 months.”

Correction 2

In the Federal Register of March 4, 2016 (81 FR 11532), in section IV, Application and Submission Information, in the first column on page 11535, after the last sentence of section 2, Content and Form of Application Submission, add a new sentence regarding page limits to read:

“We will reject your application if you exceed the page limit.”

Correction 3

In the Federal Register of March 4, 2016 (81 FR 11532), on pages 11532 and 11535, the application deadline date and the deadline for intergovernmental review are provided. This notice extends those dates. The new dates are:

Deadline for Transmittal of Applications: May 31, 2016.

Deadline for Intergovernmental Review: July 27, 2016.

All other information in the March 4, 2016, notice remains unchanged.

Program Authority: 20 U.S.C. 1067q(b)(2)(B).

Accessible Format: Individuals with disabilities can obtain a copy of the application package in an accessible format (e.g., braille, large print, audiotape, or compact disc) by contacting the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Dated: March 24, 2016.
Lynn B. Mahaffie,
Deputy Assistant Secretary for Policy, Planning and Innovation Delegated the Duties of the Assistant Secretary for Postsecondary Education.

[FR Doc. 2016-07071 Filed 3-28-16; 8:45 am]

BILLING CODE 4000-01-P